NATIONAL SCIENCE FOUNDATION

Agency Information Collection Activities: Comment Request; National Science Foundation (NSF) Polar Media Program Application Form for the Arctic and the U.S. Antarctic Program (USAP)

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

Title of Collection: National Science Foundation (NSF) Polar Media Program Application Form for the Arctic and the U.S. Antarctic Program (USAP).

OMB Control No.: 3145-New.

Abstract: The purpose of the National Science Foundation (NSF) Polar Media Program is to raise awareness of the United States' scientific and operational activities in the Arctic region and in Antarctica and the Southern Ocean. Members of the media can apply and be selected for the program whose reporting targets these activities and covers multiple media channels that will reach large and targeted audiences. This program supports the President's Memorandum Regarding Antarctica, Memorandum 6646, that “The United States Antarctic Program shall be maintained at a level providing an active and influential presence in Antarctica designed to support the range of U.S. Antarctic interests.”

The NSF Polar Media Program Application Form will collect information from media groups interested in participating in the program in response to an official yearly media call (example of a previous media call: https://www.nsf.gov/news/news_summ.jsp?cntn_id=295843). Information collected will include media contact information (first and last name, occupation, organization and organization website URL and reach, social media channel information, passport number, country, date of issuance, email address, mailing address, and phone number) in addition to organization travel desires, proposal information and specific criteria related to the proposal. Information collected will be the basis of selection for participating in the program.

Respondents: Individuals.

Estimated Number of Annual Respondents: 20.

Burden on the Public: Estimated 45 minutes to fill out the form, including the collection of data to fill in the fields. This information should be readily available for most interested parties. The estimated burden time is 15 hours.

Dated: October 31, 2022.
Suzanne H. Plimpton,
Reports Clearance Officer, National Science Foundation.

[FR Doc. 2022-23974 Filed 11-2-22; 8:45 am]

BILLING CODE 7555-01-P